ENVIRONMENTAL PROTECTION AGENCY

40 CFR Parts 60

[EPA-HQ-OAR-2004-0490; FRL-9743-9]

RIN 2060-AQ29

Extension of the Comment Period for the Proposed Standards of Performance for Stationary Gas Turbines; Standards of Performance for Stationary Combustion Turbines

AGENCY: Environmental Protection Agency (EPA).

ACTION: Notice. Announcement of extension of public comment period.

SUMMARY: The EPA is announcing that the period for providing public comments on the August 29, 2012, proposed rule titled, “Standards of Performance for Stationary Gas Turbines; Standards of Performance for Stationary Combustion Turbines” is being extended for 60 days.

DATES: The public comment period for these actions is being extended for 60 days to December 28, 2012, in order to provide the public additional time to submit comments and supporting information.

ADDRESSES: Written comments on the proposed rule may be submitted to the EPA electronically, by mail, by facsimile or through hand delivery/courier. Please refer to the proposal for the addresses and detailed instructions. Publicly available documents relevant to this action are available for public inspection either electronically in http://www.regulations.gov or in hard copy at the EPA Docket Center, Room 3334, 1301 Constitution Avenue NW., Washington, DC. The Public Reading Room is open from 8:30 a.m. to 4:30 p.m., Monday through Friday, excluding legal holidays. A reasonable fee may be charged for copying.

FOR FURTHER INFORMATION CONTACT: Mr. Christian Fellner, Energy Strategies Group, Sector Policies and Programs Division (D243-01), Office of Air Quality Planning and Standards, U.S. Environmental Protection Agency, Research Triangle Park, North Carolina 27711; Telephone number: (919) 541-4003; Fax number: (919) 541-5450; Email address: fellner.christian@epa.gov.

SUPPLEMENTARY INFORMATION:

Comment Period

The proposed rule was published in the Federal Register on August 29, 2012, and a copy of the proposed rule is available in the docket (77 FR 52554). Due to requests we have received from the public to extend the public comment period for the August 29, 2012, proposed Standards of Performance for Stationary Gas Turbines; Standards of Performance for Stationary Combustion Turbines, the public comment period is being extended for 60 days. Therefore, the public comment period will end on December 28, 2012, rather than October 29, 2012.

How can I get copies of this document and other related information?

The EPA has established the official public docket No. EPA-HQ-OAR-2004-0490, available at www.regulations.gov.

List of Subjects in 40 CFR part 60

Environmental protection, Administrative practice and procedure, Air pollution control, Reporting and recordkeeping requirements.

Dated: October 17, 2012.
Gina McCarthy,
Assistant Administrator.

[FR Doc. 2012-26206 Filed 10-25-12; 8:45 am]

BILLING CODE 6560-50-P